Title 3—

The President

Proclamation 8845 of July 27, 2012

World Hepatitis Day, 2012

By the President of the United States of America

A Proclamation

Worldwide, one in twelve people is living with viral hepatitis—a disease that threatens the health of millions of Americans and people across the globe. As a leading cause of liver cancer in the United States, it remains a major public health challenge here at home. Because the disease can persist for decades without symptoms, many Americans who are chronically infected are unaware of their infection status. On World Hepatitis Day, we call attention to this silent epidemic, and we rededicate ourselves to the fight against viral hepatitis.

Hepatitis prevention and control begins with awareness. Though all types of viral hepatitis are associated with serious health issues, hepatitis B and C can become chronic infections that often lead to liver cirrhosis or liver cancer. Tragically, complications resulting from viral hepatitis claim thousands of American lives every year—a burden borne disproportionately by African American, Hispanic, and Asian American and Pacific Islander (AAPI) communities, and by persons born between 1945 and 1965. Despite the health issues associated with the disease, a majority of Americans living with chronic hepatitis do not know they are infected.

Hepatitis A and B can be prevented with vaccines, which are recommended for all children—and for adults who are at high risk of contracting viral hepatitis. While no vaccine exists for hepatitis C, early detection and treatment can curb transmission, limit the disease's progression, and prevent life-threatening complications, including liver cancer. I encourage all Americans to talk with a physician about hepatitis prevention to learn more about what they can do to stay healthy.

My Administration remains committed to addressing viral hepatitis. As part of our Action Plan for the Prevention, Care, and Treatment of Viral Hepatitis; the Healthy People 2020 initiative; and other Federal programs, agencies across the Federal Government are partnering with States, communities, and stakeholders throughout the private and nonprofit sectors to prevent new cases of hepatitis and help Americans who have already been affected. We are promoting hepatitis outreach and education that shines a light on this public health issue. With the White House Initiative on Asian Americans and Pacific Islanders, we are working to prevent, treat, and control hepatitis B infections in AAPI communities. And by bringing health insurance within reach for more Americans, the Affordable Care Act is helping improve patient access to comprehensive viral hepatitis prevention and treatment services.

On World Hepatitis Day, let us raise awareness of the global health threat of viral hepatitis, renew our support for those living with the disease, and recommit to a future free of this tragic illness.

NOW, THEREFORE, I, BARACK OBAMA, President of the United States of America, by virtue of the authority vested in me by the Constitution and the laws of the United States, do hereby proclaim July 28, 2012, as World Hepatitis Day. I encourage citizens, Government agencies, nonprofit organizations, and communities across the Nation to join in activities that will increase awareness about hepatitis and what we can do to prevent it.

IN WITNESS WHEREOF, I have hereunto set my hand this twenty-seventh day of July, in the year of our Lord two thousand twelve, and of the Independence of the United States of America the two hundred and thirty-seventh.

[FR Doc. 2012-18974

Filed 8-1-12; 8:45 am]

Billing code 3295-F2-P